ENVIRONMENTAL PROTECTION AGENCY

[EPA-HQ-OAR-2016-0731; FRL-9956-64-OAR]

Proposed Information Collection Request; Comment Request; Reporting and Recordkeeping Requirements Under EPA's Natural Gas STAR Methane Challenge Program

AGENCY: Environmental Protection Agency (EPA).

ACTION: Notice.

SUMMARY: The Environmental Protection Agency is planning to submit an information collection request (ICR), “Reporting and Recordkeeping Requirements Under EPA's Natural Gas STAR Methane Challenge Program” (EPA ICR No. 2547.01, OMB Control No. 2060-NEW) to the Office of Management and Budget (OMB) for review and approval in accordance with the Paperwork Reduction Act (44 U.S.C. 3501 et seq.). Before doing so, EPA is soliciting public comments on specific aspects of the proposed information collection as described below. This is a request for approval of a new collection. An Agency may not conduct or sponsor and a person is not required to respond to a collection of information unless it displays a currently valid OMB control number.

DATES: Comments must be submitted on or before February 13, 2017.

ADDRESSES: Submit your comments, referencing Docket ID No. EPA-HQ-OAR-2016-0731, online using www.regulations.gov (our preferred method), by email to a-and-r-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Justin Pryor, Office of Atmospheric Programs, Climate Change Division, (6207A), Environmental Protection Agency, 1200 Pennsylvania Ave. NW., Washington, DC 20460; telephone number: 202-343-9258; fax number: 202-343-2342; email address: Pryor.Justin@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Natural Gas STAR Methane Challenge Program is a voluntary program sponsored by the U.S. Environmental Protection Agency (EPA) that provides an innovative voluntary mechanism through which oil and natural gas companies can make specific, ambitious commitments to reduce methane emissions. This Program is an integral part of the EPA's—and the Administration's—ongoing commitment to address methane emissions and global climate change. Methane is the primary component of natural gas and a potent greenhouse gas. The Program works to encourage oil and natural gas companies to go above and beyond existing regulatory action and make meaningful and transparent commitments to yield significant methane emissions reductions in a quick, flexible, cost-effective way. Transparency in comprehensively tracking company commitments through the non-confidential data reported by Methane Challenge partners is a key feature of the Program, and enables partners to highlight emissions reductions achieved through voluntary action taken. Implementation of the Methane Challenge Program's two commitment options, the Best Management Practice Commitment Option and the ONE Future Emissions Intensity Commitment Option, improves operational efficiency, saves partner companies money, and enhances the protection of the environment.

Form Numbers: Methane Challenge Program partners are required to sign and submit to EPA a Partnership Agreement (PA) that describes the terms of participation in the Program. The PA forms covered under this ICR include:

• Natural Gas STAR Methane Challenge Program—Partnership Agreement for Best Management Practice Commitment: EPA Form No. XXXX-XXX; and,

• Natural Gas STAR Methane Challenge Program—Partnership Agreement for ONE Future Commitment: EPA Form No. XXXX-XXX.

Partners must complete and submit a Methane Challenge Implementation Plan within six months of signing the MOU. The Implementation Plan forms covered under this ICR include:

• Methane Challenge Program Implementation Plan Guidelines: EPA Form No. XXXX-XXX; and

• Methane Challenge Program Implementation Plan Template—BMP Commitment: EPA Form No. XXXX-XXX.

After one full calendar year of participation in the Program, EPA requires partners to submit a specific set of data documenting the previous year's methane emissions, activity data, and reduction activities. The annual reporting forms covered under this ICR include:

BMP Commitment

• Distribution Reporting Forms: EPA Form No. XXXX-XXX;

• Transmission and Storage Reporting Forms: EPA Form No. XXXX-XXX; and

• Gathering and Boosting Reporting Forms: EPA Form No. XXXX-XXX.

ONE Future Commitment

The annual reporting forms for the ONE Future Commitment Option are to be developed but will follow the requirements set forth in the following document:

• Supplemental Technical Information for ONE Future Commitment Option: EPA Form No. XXXX-XXX.

Upon becoming a partner in the Methane Challenge Program, companies are given an opportunity to draft and submit a Historical Actions Fact Sheet, which provides information on historical methane reduction actions taken prior to joining Methane Challenge. A two-page fact sheet template is made available to partner companies and allows entry of up to five key methane mitigation activities, including text, photos, and graphics. Submitting this document is not a requirement of the Methane Challenge Program partnership. The fact sheet covered under this ICR is:

• Historical Actions Fact Sheet Template—EPA Form No.: XXXX-XXX

Respondents/affected entities: The Natural Gas STAR Methane Challenge Program is open to companies in the oil production, and production, gathering and boosting, processing, transmission and storage, and distribution segments of the natural gas industry.

Respondent's obligation to respond: Voluntary.

Estimated number of respondents: 58 (total projected partners over the three-year ICR period).

Frequency of response: Annual.

Total estimated burden: 2,978 hours (per year, averaged over the three-year ICR period). Burden is defined at 5 CFR 1320.3(b).

Total estimated cost: $268,952 (per year, averaged over the three-year ICR period), includes $0 annualized capital or operation & maintenance costs.

Changes in Estimates: This is a new program. Therefore, this is an initial burden estimate.

Dated: November 14, 2016.
Paul Gunning,
Director, Climate Change Division.

[FR Doc. 2016-30062 Filed 12-13-16; 8:45 am]

BILLING CODE 6560-50-P